DEPARTMENT OF TRANSPORTATION

Federal Aviation Administration

Notice To Intend To Rule on Application 04-02-C-00-HPN To Impose a Revenue From a Passenger Facility Charge (PFC) at Westchester County Airport, White Plains, NY

AGENCY: Federal Aviation Administration (FAA), DOT.

ACTION: Notice to intend to rule on application.

SUMMARY: The FAA proposes to rule and invites public comment on the application to impose a PFC at Westchester County Airport under the provisions of the Aviation Safety and Capacity Act of 1990 (Title IX of the Omnibus Budget Reconciliation Act of 1990) (Public Law 101-508) and Part 158 of the Federal Aviation Regulations (14 CFR part 158).

DATES: Comments must be received on or before February 12, 2004.

ADDRESSES: Comments on this Application may be mailed or delivered in triplicate to the FAA at the following address: Mr. Dan Vornea, Project Manager, New York District Office, 600 Old Country Road, Suite 446, Garden City, NY 11530.

In addition, one copy of any comments submitted to the FAA must be mailed or delivered to Mr. Robert J. Bracchitta, Assistant Commissioner, Department of Transportation, Westchester County at the following address: Westchester County Airport, Building #11, 36 Loop Road, White Plains, New York 10604.

Air carriers and foreign air carriers may submit copies of their written comments previously provided to Westchester County Airport under section 158.23 of part 158.

FOR FURTHER INFORMATION CONTACT: Dan Vornea, Project Manager, New York Airports District Office, 600 Old Country Road, Suite 446, Garden City, NY 11530, Telephone No. (516) 227-3812. The application may be reviewed in person at this same location.

SUPPLEMENTARY INFORMATION: The FAA proposes to rule and invites public comment on the application to impose a PFC at Westchester County Airport under the provisions of the Aviation Safety and Capacity Expansion Act of 1990 (Title IX of the Omnibus Budget Reconciliation Act of 1990) (Public Law 101-508) and part 158 of the Federal Aviation Regulations (14 CFR part 158).

On January 5, 2004 the FAA determined that the application to impose a PFC submitted by the Westchester County was substantially completed within the requirements of section 158.25 of part 158. The FAA will approve or disapprove the application, in whole or in part, no later than May 1, 2004.

The following is a brief overview of the application:

Application Number: 04-02-C-00-HPN.

Level of Proposed PFC: $4.50.

Proposed Charge Effective Date: May 1, 2004.

Proposed Charge Expiration Date: October 1, 2014.

Total Estimated PFC Revenue: $20,200,000.

Brief Description of Proposed Project: Design and Construction of a New Deicing Facilities.

Class or classes of air carriers which the public agency has requested not to be required to collect PFS's are: Non-Scheduled/On Demand Air Carriers filing FAA Form 1800-31.

Any person may inspect the Application in person at the FAA office listed above under FOR FURTHER INFORMATION CONTACT and at the FAA Regional Office: 1 Aviation Plaza, Jamaica, N.Y. 11434-4809.

In addition, any person may, upon request, inspect the application notice and other documents germane to the application in person at the Westchester County Airport.

Issued in Garden City, New York on January 5, 2004.
Philip Brito,
Manager, NYADO, Eastern Region.

[FR Doc. 04-594 Filed 1-12-04; 8:45 am]

BILLING CODE 4910-13-M